DEPARTMENT OF COMMERCE

National Oceanic and Atmospheric Administration

Membership of the National Oceanic and Atmospheric Administration Performance Review Board

Correction

In notice document 02-23053 appearing on page 57580 in the issue of Wednesday, September 11, 2002, make the following correction:

On page 57580, in the third column, in the signature, “Undersecretary for Oceans and Atmosphere” should read “Deputy Undersecretary for Oceans and Atmosphere”.

[FR Doc. C2-23053 Filed 9-16-02; 8:45 am]

BILLING CODE 1505-01-D

DEPARTMENT OF DEFENSE

Department of the Army; Corps of Engineers

Intent to Prepare a Draft Programmatic Environmental Impact Statement (DEIS) for the Florida Keys Water Quality Improvements Program

Correction

In notice document 02-23004 beginning on page 57413 in the issue of Tuesday, September 10, 2002, make the following correction:

On page 57413, in the second column, under the heading SUPPLEMENTARY INFORMATION, in the 27th line, “waterwater” should read, “wastewater”.

[FR Doc. C2-23004 Filed 9-16-02; 8:45 am]

BILLING CODE 1505-01-D

DEPARTMENT OF HEALTH AND HUMAN SERVICES

Food and Drug Administration

21 CFR Part 2

[Docket No. 97N-0023]

RIN 0910-AA99

Use of Ozone-Depleting Substances; Essential-Use Determinations

Correction

In rule document 02-18610 beginning on page 48370 in the issue of Wednesday, July 24, 2002 make the following correction:

On page 48371, in the first column, under the DATES heading, in the sixth line, “August 25, 2002” should read “July 24, 2003”.

[FR Doc. C2-18610 Filed 7-16-02; 8:45 am]

BILLING CODE 1505-01-D

DEPARTMENT OF THE TREASURY

Internal Revenue Service

26 CFR Part 1

[REG-208280-86; REG-136311-01]

RIN 1545-AJ57; RIN 1545-BA07

Exclusions From Gross Income of Foreign Corporations

Correction

In proposed rule document 02-19127 beginning on page 50510 in the issue of Friday, August 2, 2002, make the following corrections:

§ 1.883-1 [Corrected]

1. On page 50525, in § 1.883-1, in the second column, in paragraph (h)(2), in the fifth line, “(i) through (viii) of this section pararaph (h)(2)” should read, “paragraph (h)(2)(i) through (viii) of this section”.

2a. On the same page, in the same section, in the third column, in paragraph (h)(3)(iii), in the third line, “1.833-2” should read, “1.883-2”.

2b. In the seventh line, “1.833-2” should read, “1.883-2”.

§ 1.883-4 [Corrected]

3. On page 50530, in § 1.883-4, in the first column, in paragraph (a), in the eighth line, “A 1.883-1(c)(2)” should read, “§ 1.883-1(c)(2)”.

[FR Doc. C2-19127 Filed 9-16-02; 8:45 am]

BILLING CODE 1505-01-D